DEPARTMENT OF HEALTH AND HUMAN SERVICES

Administration for Community Living

Notice of Federal Review of the Alabama Protection and Advocacy System (P&A)

AGENCY: Administration for Community Living, HHS.

ACTION: Notice.

SUMMARY: Representatives of the Administration on Disabilities (AoD), Administration for Community Living (ACL), will be conducting a federal review of the Alabama Protection and Advocacy System (P&A), Alabama Disability Advocacy Program (ADAP) on July 22-26, 2024. AoD is soliciting comments from interested parties on your experiences with the program, and strategies employed by the P&A ADAP in meeting the needs of individuals with developmental disabilities and their families in Alabama.

DATES: Comments from interested parties must be submitted electronically by 11:59 p.m. (ET) by July 31, 2024 in order to be included in the final report.

ADDRESSES: You are encouraged to share your experiences with Selvin Garcia, Administration on Disabilities, Administration for Community Living by email at Selvin.Garcia@acl.hhs.gov; by telephone at 202-795-7567; or by mail to Selvin Garcia Administration on Disabilities, Administration for Community Living, 330 C Street SW, 1st Floor, Washington, DC 20201.

FOR FURTHER INFORMATION CONTACT: Selvin Garcia, Administration on Disabilities, Administration for Community Living, at Selvin.Garcia@acl.hhs.gov or 202-795-7567.

Dated: June 6, 2024.
Alison Barkoff,
Principal Deputy Administrator for the Administration for Community Living, performing the delegable duties of the Administrator and the Assistant Secretary for Aging.

[FR Doc. 2024-12824 Filed 6-11-24; 8:45 am]

BILLING CODE 4154-01-P